DEPARTMENT OF HEALTH AND HUMAN SERVICES

[Document Identifier: OS-0990-0326]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: The Hospital Preparedness Program—Revision-OMB No. 0990-0326-OS—Assistant Secretary for Preparedness and Response (ASPR).

Abstract: The Office of the Assistant Secretary for Preparedness and Response (ASPR), Division of Healthcare Preparedness Program (HPP) and the State and Local Initiative—Program Evaluation Section (SLI-PES), is proposing a Web-based reporting system to gather critical information and data from the 62 Awardees participating in the National Bioterrorism Hospital Preparedness Program (NBHPP). The reporting system will capture information related on performance measures, critical benchmarks, minimal levels of readiness, program statistics, policies and procedures, surge capacity elements, surge capacity as measured by exercises, and other pertinent information for programmatic fiscal management, improvement and tracking performance. The data submitted to HPP will be gathered for mid-year reports and end of year reports on annual activities and progress.

Awardees will indicate the progress made toward each of the financial and programmatic objectives noted on their cooperative agreement application (CAA) on the mid-year progress report. The end of year report on annual activities will require Awardees to provide additional details on objective achievement and budget/fiscal management. The end of year report will also require Awardees to present improvements made toward achieving the program's critical benchmarks.

In addition, the reporting will increase ASPR's ability to quickly and efficiently analyze data, identify trends, make timely program decisions, and provide the Department of Health and Human Services (HHS), Congress, and other Operating Divisions with data and information.

Estimated Annualized Burden Table
Forms (if necessary) | Type of respondent | Number of respondents | Number of responses per respondent | Average burden hours per response | Total burden hours
Form is Web-based interface | Mid-Year Report | 62 | 1 | 2 | 124
Form is Web-based interface | Final Report | 62 | 1 | 16 | 992
Total |  |  |  |  | 1,116

Seleda Perryman,
Paperwork Reduction Act Reports Clearance Officer, Office of the Secretary.

[FR Doc. E9-24474 Filed 10-9-09; 8:45 am]

BILLING CODE 4150-37-P